DEPARTMENT OF THE INTERIOR

National Park Service

National Capital Memorial Commission Notice of Public Meeting

Notice is hereby given in accordance with the Federal Advisory Committee Act that a meeting of the National Capital Memorial Commission (the Commission) will be held at 1 p.m. on Thursday, April 26, 2001, at the National Building Museum, Room 312, 5th and F Streets, NW., Washington, DC.

The purpose of the meeting will be to discuss currently authorized and proposed memorials in the District of Columbia and environs.

In addition to discussing general matters and routine business, the Commission will review:

Action Items

(1) Site Selection

(a) Alternative site study for the plaque to be placed at the Vietnam Veterans Memorial honoring post-war casualties of the Vietnam War (Public Law 106-215, June 14, 2000).

(b) Alternative site study for the plaque to be placed at the Lincoln Memorial commemorating the “I Have a Dream” speech of Martin Luther King, Jr. (Public Law 106-365, October 2, 2000).

(2) Legislative Proposals

(a) Pyramid of Remembrance (Soldiers lost during peacekeeping operations) (H.R. 282, January 30, 2001).

(b) Vietnam Veterans Memorial Education Center (S. 281 and H.R. 510, February 7, 2001).

(c) Memorial to Presidents John Adams and John Quincy Adams.

The Commission was established by Public Law 99-652, the Commemorative Works Act, to advise the Secretary and the Administrator, General Services Administration, (the Administrator) on policy and procedures for establishment of (and proposals to establish) commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service

Chairman, National Capital Planning Commission

Architect of the Capitol

Chairman, American Battle Monuments Commission

Chairman, Commission of Fine Arts

Mayor of the District of Columbia

Administrator, General Services Administration

Secretary of Defense

The meeting will be open to the public. Any person may file with the Commission a written statement concerning the matters to be discussed. Persons who wish to file a written statement or testify at the meeting or who want further information concerning the meeting may contact Ms. Nancy Young, Executive Secretary to the Commission, at (202) 619-7097.

Dated: March 19, 2001.
Joseph M. Lawler,
Deputy Regional Director, National Capital Region.

[FR Doc. 01-8690 Filed 4-6-01; 8:45 am]

BILLING CODE 4310-70-M